DEPARTMENT OF HEALTH & HUMAN SERVICES

Administration for Children and Families

Administration on Children, Youth and Families, Children's Bureau; Grants and Cooperative Agreements; Availability etc: Abandoned Infants Comprehensive Service Demonstration Projects

Funding Opportunity Title: Abandoned Infants Comprehensive Service Demonstration Projects.

Announcement Type: Initial.

Funding Opportunity Number: HHS-2005-ACF-ACYF-CB-0088.

CFDA Number: 93.551.

Due Date for Applications: Application is due August 12, 2005.

Executive Summary: The purposes of this funding announcement are as follows: (1) To develop and implement programs of comprehensive community-based support services for the target population as described in Public Law 100-505, as amended; (2) to evaluate the implementation and outcomes of these comprehensive support services; and (3) to develop these programs as identifiable sites that other States/locales seeking to implement comprehensive support services for this population can look to for guidance, insight, and possible replication.

I. Funding Opportunity Description

The purposes of this funding announcement are as follows: (1) To develop and implement programs of comprehensive community-based support services for the target population as described in Public Law 100-505, as amended; (2) to evaluate the implementation and outcomes of these comprehensive support services; and (3) to develop these programs as identifiable sites that other States/locales seeking to implement comprehensive support services for this population can look to for guidance, insight, and possible replication.

Definitions

Abandoned and Abandonment—The terms ‘abandoned' and ‘abandonment,' used with respect to infants and young children, mean that the infants and young children are medically cleared for discharge from acute-care hospital settings, but remain hospitalized because of a lack of appropriate out-of-hospital placement alternatives.

Acquired Immune Deficiency Syndrome—The term ‘acquired immune deficiency syndrome' includes infection with the etiologic agent for such syndrome, any condition indicating that an individual is infected with such etiologic agent, and any condition arising from such etiologic agent.

Dangerous Drug—The term ‘dangerous drug' means a controlled substance, as defined in section 102 of the Controlled Substances Act (21 U.S.C. 802).

Natural Family—The term “natural family” shall be broadly interpreted to include natural parents, grandparents, family members, guardians, children residing in the household, and individuals residing in the household on a continuing basis who are in a care-giving situation, with respect to infants and young children covered under this Act.

Priority Area

Abandoned Infants Comprehensive Service Demonstration Projects

1. Description: The purposes of this funding announcement are as follows: (1) To develop and implement programs of comprehensive community-based support services for the target population as described in Public Law 100-505, as amended; (2) to evaluate the implementation and outcomes of these comprehensive support services; and (3) to develop these programs as identifiable sites that other States/locales seeking to implement comprehensive support services for this population can look to for guidance, insight, and possible replication.

Legislative Authority

The purposes of Public Law 100-505, the Abandoned Infants Act of 1988, as amended, are to establish a program of local support services projects in order to prevent the abandonment in hospitals of infants and young children, particularly those who have been perinatally exposed to a dangerous drug, those with the human immunodeficiency virus (HIV) or who have been perinatally exposed to the virus, or those who have a life-threatening illness or other special medical need; to identify and address the needs of those infants and children who are, or might be, abandoned; to develop a program of comprehensive support services for these infants and young children and their natural families (see Definitions) that include, but are not limited to, foster family care services, case management services, family support services, respite and crisis intervention services, counseling services and group residential home services; and to recruit and train health and social services personnel, foster care families, and residential care providers to meet the needs of abandoned children and infants and children who are at risk of abandonment. The legislation also allows for the provision of a technical assistance training program to support the planning, development and operation of the local comprehensive support services projects. The reauthorized legislation requires the Secretary to give priority to applicants located in States that have developed and implemented procedures for expedited termination of parental rights and placement for adoption of infants determined to be abandoned under State law.

Projects funded under this announcement will be expected to:

1. Have the project fully functioning within 90 days following the notification of the grant award.

2. Participate if the Children's Bureau chooses to do a national evaluation or a technical assistance contract that relates to this funding announcement.

3. Submit all performance indicator data, program and financial reports in a timely manner, in suggested format (to be provided), and submit the final report on disk or electronically using a standard word-processing program.

4. Submit a copy of the final report, the evaluation report, and any program products to the National Clearinghouse on Child Abuse and Neglect Information, 330 C Street, SW., Washington, DC 20447, within 90 days of project end date. This is in addition to the standard requirement that the final program and evaluation report must also be submitted to the Grants Management Specialist and the Federal Project Officer.

5. Allocate sufficient funds in the budget to:

(a) Provide for the project director, the evaluator and other key partners to attend an annual 3-day grantees' meeting in Washington, DC.

(b) Provide for the project director, the evaluator and other key partners to attend an early kickoff meeting for grantees funded under this priority area to be held within the first three months of the project (first year only) in Washington, DC; and

(c) Direct 10-15 percent of the proposed budget to project evaluation.

In addition, projects funded under this announcement agree to the following assurances required by sections 101 (b) through (d) of the Abandoned Infants Assistance Act:

1. Give priority to abandoned infants and young children who are infected with, or have been perinatally exposed to, the human immunodeficiency virus, or have a life-threatening illness or other special medical need; or have been perinatally exposed to a dangerous drug.

2. If programs provide care to infants and young children in foster homes or in other residential non-medical settings away from their parents, assure that for each infant and young child, a case plan (as described in paragraph 1 of section 475 of the Social Security Act [42 U.S.C. 675(1)]) and a case review system (of the type described in paragraph (5) of such section) are in place, to the extent that the infants and young children are not otherwise covered by such a plan or system.

3. Use the funds provided under this announcement only for the purposes specified in the application submitted to and approved by the Secretary.

4. Establish fiscal control and accounting procedures to ensure proper disbursement and accounting of Federal funds.

5. Submit reports on the utilization, cost, and outcome of activities conducted, and services furnished, as described in part VI.3. of this announcement (Award Administration Information.).

Definitions

Abandoned and Abandonment—The terms ‘abandoned' and ‘abandonment,' used with respect to infants and young children, mean that the infants and young children are medically cleared for discharge from acute-care hospital settings, but remain hospitalized because of a lack of appropriate out-of-hospital placement alternatives.

Acquired Immune Deficiency Syndrome (AIDS)—The term ‘acquired immune deficiency syndrome' includes infection with the etiologic agent for such syndrome, any condition indicating that an individual is infected with such etiologic agent, and any condition arising from such etiologic agent.

Dangerous Drug—The term ‘dangerous drug' means a controlled substance, as defined in section 102 of the Controlled Substances Act (21 U.S.C. 802).

Natural Family—The term “natural family” shall be broadly interpreted to include natural parents, grandparents, family members, guardians, children residing in the household, and individuals residing in the household on a continuing basis who are in a care-giving situation, with respect to infants and young children covered under this Act.

Program Requirements

The services needed by these infants and their families are many. The needed services are likely to be provided by many different community-based agencies. Applicants must utilize an existing consortium of community-based service providers or develop a consortium for the purpose of implementing this demonstration project. Qualified faith-based and community organizations may be part of the consortium delivering these services. The applicant must take a systemic approach to obtaining and providing a comprehensive set of services to this client population. In order to provide the needed services and efficiently use all the relevant community resources, the applicant must develop a strong infrastructure of community-based collaboration in delivering the services. This collaborative should recognize and respect individualized care practices and deliver the services and program supports in a culturally competent manner. The role of the cooperating agencies must be specific and delineated in a letter that specifies the level and type of program commitment to the overall effort. A pro forma letter of support will not be considered responsive to this requirement.

In developing its consortium of community-based service providers, the applicant could include the following entities: child welfare, legal services, substance abuse treatment, mental health, parent support programs, caregiver support programs, in-home visiting, respite care, housing assistance, and quality childcare support. In providing the necessary services to this client population, the applicant may also consider the provision of caregiver support services to those relatives who are the caretakers for the children of a substance-abusing and/or HIV/AIDS affected mother. Applicants may also consider the provision of therapeutic recreational services for the young children and their families impacted by HIV/AIDS. Projects should demonstrate shared responsibility for case management (e.g., joint social services-medical case management) and integration of case plans for multiple agencies.

These demonstration projects must address the relevant aspects of the State's Program Improvement Plan developed under the Child and Family Services Review as they provide coordinated services to this population.

Evaluation

The Children's Bureau requires an objective evaluation and recommends a third party evaluation of the project. Projects funded under this announcement must collect descriptive data on characteristics of individuals and families served, types and nature of needs identified and met, the services provided, measures of client outcomes, child development and well-being, client satisfaction, parenting skills, parent/child interaction, cost benefit, service utilization information, and any other such information as may be required by ACYF. Additional information on outcome measures, suggested data collection instruments, and specific data characteristics, can be found at http://aia.berkeley.edu/direct_service_programs/UMKC.html.

Projects should also collect process and outcome data for the project. The evaluation component of the application should describe methods of collecting descriptive data on the characteristics of the clients served and the services provided. This evaluation should be designed to collect systematic data to answer questions such as the following: What are the characteristics of families who abandon children? What are the service needs of children, mothers, fathers, and families of drug exposed infants? What are the service needs of HIV-positive infants? What are the barriers to comprehensive case management and to the coordination of service delivery? What changes have been most helpful in improving the delivery of services? What changes/improvements have there been in the child's well-being and the child's development? What changes have there been in the family's stability and ability to function? What are the permanency outcomes for children?

Projects must also submit descriptive data on the clients served and the services provided to the National Abandoned Infants Assistance Resource Center annually. Timeframes for the submission of data on outcome measures will be negotiated within six months after grant award.

II. Award Information

Funding Instrument Type: Grant.

Anticipated Total Priority Area Funding: $2,850,000.

Anticipated Number of Awards: 0 to 6.

Ceiling on Amount of Individual Awards per Budget Period: $475,000.

Average Projected Award Amount: $475,000.

Length of Project Periods: 48 month project with four 12-month budget periods.

Other.

Explanation of Other: In the first budget period, the maximum Federal share of each project is not to exceed $475,000. The projects awarded will be for a project period of 48 months. The initial grant award will be for a 12-month budget period. The award of continuation beyond each 12-month budget period will be subject to the availability of funds, satisfactory progress on the part of the grantee, and a determination that continued funding would be in the best interest of the government.

III. Eligibility Information

1. Eligible Applicants

State governments.

County governments.

City or township governments.

State controlled institutions of higher education.

Native American tribal governments (federally recognized).

Native American tribal organizations (other than federally recognized tribal governments).

Nonprofits having a 501(c)(3) status with the IRS, other than institutions of higher education.

Nonprofits that do not have a 501(c)(3) status with the IRS, other than institutions of higher education.

Private institutions of higher education.

Additional Information on Eligibility:

Collaborative and interdisciplinary efforts are acceptable, but applications should identify a primary applicant responsible for administering the grant.

Faith-based and community organizations that meet all other eligibility requirements are eligible to apply.

2. Cost Sharing/Matching

Yes.

Matching/Cost-Sharing

Grantees must provide at least 10 percent of the total approved cost of the project. The total approved cost of the project is the sum of the ACF share and the non-Federal share. The non-Federal share may be met by cash or in-kind contributions, although applicants are encouraged to meet their match requirements through cash contributions. Therefore, a project requesting $475,000 in Federal funds (based on an award of $475,000 per budget period) must provide a match of at least $52,778 (10 percent of the total approved project costs). Grantees will be held accountable for commitments of non-Federal resources even if over the amount of the required match. Failure to provide the amount will result in disallowance of Federal dollars.

Cost-sharing will not be used as a preference and/or evaluation criterion in the review of applications.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

ACYF Operations Center, c/o The Dixon Group, Inc. Attn: Children's Bureau, 118 Q St., NE., Washington, DC 20002-2132.

2. Content and Form of Application Submission

Each application must contain the following items in the order listed:

Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.'

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

Budget Information Non-Construction Programs (Form 424A) and Budget Justification.

Follow the instructions provided here and those in Section V. Application Review Information. Note that Federal funds provided to States and services or other resources purchased with Federal funds may not be used to match project grants.

Certifications/Assurances. Applicants requesting financial assistance for non-construction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

In implementing their projects, grantees are expected to comply with all applicable administrative regulations regarding extent or types of costs. Applicable DHHS regulations can be found in 45 CFR part 74 or 92.

Project Abstract/Summary (one page maximum, double spaced). Clearly mark this page with the applicant name as shown on item 5 of the Form 424, identify the competitive grant funding opportunity and the title of the proposed project as shown in item 11 and the service area as shown in item 12 of the Form 424. The summary description should not exceed 300 words.

Care should be taken to produce an abstract/summary that accurately and concisely reflects the proposed project. It should describe the objectives of the project, the approach to be used and the results or benefits expected.

Project Description for Evaluation. Applicants should organize their project description in this sequence: (1) Objectives and Need for Assistance; (2) Approach; (3) Organizational Profiles; (4) Budget and Budget Justification.

Match. Provide a letter of commitment verifying the actual amount of the non-Federal share of project costs (see Section III.2).

Indirect cost rate agreement. If claiming indirect costs, provide documentation that applicant currently has an indirect cost rate approved by the Department of Health and Human Services (HHS) or another cognizant Federal agency.

Letters of agreement and memoranda of understanding. If applicable, include a letter of commitment or Memorandum of Understanding from each partner and/or sub-contractor describing their role, detailing specific tasks to be performed, and expressing commitment to participate if the proposed project is funded.

General Content and Form Information

The application limit is 90 pages total including all forms and attachments. Pages over this page limit will be removed from the application and will not be reviewed.

The Children's Bureau strongly prefers that the entire application (including all forms, assurances, and letters of commitment) be sent in one package.

To be considered for funding, each application must be submitted with the Standard Federal Forms (provided at the end of this announcement or through the electronic links provided) and following the guidance provided. The application must be signed by an individual authorized to act for the applicant agency and to assume responsibility for the obligations imposed by the terms and conditions of the grant award.

To be considered for funding, each applicant must submit one signed original and two additional copies of the application, including all forms and attachments, to the Application Receipt Point specified in the section titled Deadline at the beginning of the announcement. The original copy of the application must have original signatures.

The application must be typed, double spaced, printed on only one side, with at least ½ inch margins on each side and 1 inch at the top and bottom, using standard 12 Point fonts (such as Times New Roman or Courier). Pages must be numbered.

All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation; however, each complete copy must be stapled securely in the upper left corner. Applicants are advised that the copies of the application submitted, not the original, will be reproduced by the Federal government for review.

Tips for Preparing a Competitive Application. It is essential that applicants read the entire announcement package carefully before preparing an application and include all of the required application forms and attachments. The application must reflect a thorough understanding of the purpose and objectives of the applicable legislation. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application. The specific evaluation criteria in Section V of this funding announcement will be used to review and evaluate each application. The applicant should address each of these specific evaluation criteria in the project description. Applicants should organize their project description in this sequence: (1) Objectives and Need for Assistance; (2) Approach; (3) Organizational Profiles; (4) Budget and Budget Justification; and should use the same headings as these criteria, so that reviewers can readily find information that directly addresses each of the specific review criteria.

Project Evaluation Plan. Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/opre/other_resrch/pm_guide_eval/reports/pmguide/pmguide_toc.html.

Logic Model. A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

Use of Human Subjects. If your evaluation plan includes gathering data from or about clients, there are specific procedures which must be followed in order to protect their privacy and ensure the confidentiality of the information about them. Applicants planning to gather such data are asked to describe their plans regarding an Institutional Review Board (IRB) review. If applicable, applicants must include a completed Form 310, Protection of Human Subjects. For more information about use of human subjects and IRB's you can visit these Web sites: http://www.hhs.gov/ohrp/irb/irb_chapter2.htm#d2 and http://www.hhs.gov/ohrp/humansubjects/guidance/ictips.htm.

You may submit your application to us in either electronic or paper format.

To submit an application electronically, please use the http://www.Grants.gov/Apply site. If you use Grants.gov, you will be able to download a copy of the application package, complete it off-line, and then upload and submit the application via the Grants.gov site. ACF will not accept grant applications via e-mail or facsimile transmission.

Please note the following if you plan to submit your application electronically via Grants.gov.

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with the form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times

Application is due August 12, 2005.

Explanation of Due Dates: The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will not be provided to applicants who submit their package via mail, courier services, or by hand delivery. However, applicants will receive an electronic acknowledgement for applications that are submitted via http://www.Grants.gov.

Checklist: You may use the checklist below as a guide when preparing your application package.

What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF 424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | Found in Section IV | By date of award.
SF 424A | See Section IV.2 | See http://www.acf.hhs.gov/programs/ofs/forms.htm | By application due date.
SF 424B | See Section IV.2 | See http://www.acf.hhs.gov/programs/ofs/forms.htm | By application due date.
Proof of Non-Profit Status | See Section III.3 | Found in Section III.3 | By date of award.
Indirect Cost rate Agreement, if applicable | See Section IV | Format described in IV | By application due date.
Letters of commitment from partner organizations, if applicable | See Section IV | Format described in IV | By application due date.
Non-Federal Commitment Letter | See Section III.2 | See Section III.2 | By date of award.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on http://www.acf.hhs.gov/programs/ofs/forms.htm | By application due date.

4. Intergovernmental Review

State Single Point of Contact (SPOC):

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

6. Other Submission Requirements

Submission by Mail: An applicant must provide an original application with all attachments, signed by an authorized representative and two copies. Please see Section IV.3 for explanation of due dates. Applications should be mailed to: ACYF Operations Center, c/o The Dixon Group, Inc., 118 Q St., NE., Washington, DC 20002-2132, Attention: Children's Bureau.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: ACYF Operations Center, c/o The Dixon Group, Inc., 118 Q St., NE., Washington, DC 20002-2132, Attention: Children's Bureau.

Electronic Submission: Please see Section IV.2 for guidelines and requirements when submitting applications electronically via http://www.Grants.gov.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Nonfederal Resources

Description: Amounts of non-Federal resources that will be used to support the project as identified in Block 15 of the SF-424.

Justification: The firm commitment of these resources must be documented and submitted with the application so the applicant is given credit in the review process. A detailed budget must be prepared for each funding source.

Evaluation Criteria

The following evaluation criteria appear in weighted descending order. The corresponding score values indicate the relative importance that ACF places on each evaluation criterion; however, applicants need not develop their applications precisely according to the order presented. Application components may be organized such that a reviewer will be able to follow a seamless and logical flow of information (e.g., from a broad overview of the project to more detailed information about how it will be conducted).

In considering how applicants will carry out the responsibilities addressed under this announcement, competing applications for financial assistance will be reviewed and evaluated against the following criteria:

Approach (50 Points)

In reviewing the approach, the following factors will be considered: (50 points).

(1) The extent to which the timeline for implementing the proposed project, including major milestones and target dates, is comprehensive and reasonable. The extent to which the proposed project would develop the range of community-based, coordinated, comprehensive support services in a timely manner and conduct a thorough evaluation of its effectiveness within the four-year project period.

(2) The extent to which the proposed project would enhance the capacity to provide community-based, collaborative, comprehensive support services to children and their families affected by substance abuse and/or HIV/AIDS, develop knowledge, enhance skills and abilities of practitioners in providing these types of services and transfer this knowledge into practice. The extent to which specific measurable outcomes will occur as a result of the proposed collaborative, comprehensive services program.

(3) The extent to which the approach establishes an infrastructure of community-based agencies and promotes a lasting change in the delivery of community-based services to this client population. The extent to which the applicant describes the roles and responsibilities of the collaborating agencies, and includes letters of commitment.

(4) The extent to which the applicant demonstrates a thorough understanding of the challenges in providing community-based, collaborative comprehensive services to this target population with such complex needs. The extent to which the applicant provides a sound plan for overcoming these challenges.

(5) The extent to which the applicant will work effectively with terminally ill parent(s), if present in the program, to make permanency planning arrangements, such as, stand-by guardianship or stand-by adoption arrangements for their children to ensure the smooth transition to another caregiver and prevent a possible out-of-home placement.

(6) The extent to which the project will be culturally responsive to the target population.

(7) The extent to which the specific services that would be provided under the proposed project are appropriate and are described in detail. The extent to which the project will be broad and comprehensive and will be implemented in a collaborative manner with other community-based agencies. The extent to which the project will effectively provide the wide range of assistance needed by the target population.

(8) The extent to which the design of the proposed project reflects up-to-date knowledge from the substance-abuse treatment and HIV/AIDS treatment research and literature. The extent to which the proposed project is innovative and involves strategies that build on, or are an alternative to, existing strategies.

(9) The extent to which the applicant describes appropriate procedures for conducting an effective evaluation effort. The extent to which the methods/procedures used will effectively determine the extent to which the program has achieved the stated objectives. The extent to which the proposed evaluation plan would be likely to yield useful findings or results about effective strategies and contribute to and promote evaluation research and evidence-based practices that could be used to guide replication or testing in other settings. The extent to which the application provides a sound plan for collecting this data and securing informed consent. The extent to which the plan includes appropriate procedures for an Institutional Review Board (IRB) review, if applicable.

(10) The extent to which there is a sound plan for developing useful products during the proposed project and a reasonable schedule for developing these products. The extent to which the intended audience (e.g., practitioners) for product dissemination is comprehensive and appropriate. The extent to which the dissemination plan includes appropriate mechanisms and forums that would effectively convey the information and support successful replication by other interested agencies.

(11) The extent to which there is a sound plan for continuing this project beyond the period of Federal funding.

Organizational Profiles (20 Points)

In reviewing the organizational profiles, the following factors will be considered: (20 points).

(1) The extent to which the applicant organization and its staff have sufficient experience in successfully providing comprehensive services to substance-abusing women and women who have HIV/AIDS and their infants and/or young children, and in collaborating effectively with community-based agencies. The extent to which the applicant's history and relationship with the targeted community will assist in the effective implementation of the proposed project. The extent to which the applicant has experience in developing collaborative working agreements with other community-based agencies in planning, developing and delivering services. The extent to which the applicant organization's capabilities and experience relative to this project, including experience with administration, development, implementation, management, and evaluation of similar projects, will enable them to implement the proposed project effectively.

(2) If the applicant represents a consortium of partner agencies, the extent to which their background and experience with children and families impacted by substance abuse and HIV/AIDS will support the planning and implementation of the proposed project. The extent to which there are letters of commitment from each partner authorizing the applicant to apply on behalf of the consortium and agreeing to participate if the proposal is funded.

(3) The extent to which the proposed project director and key project staff possess sufficient relevant knowledge, experience and capabilities to implement and manage a project of this size, scope and complexity effectively. The extent to which the role, responsibilities and time commitments of each proposed project staff position, including consultants, subcontractors and/or partners, are clearly defined and appropriate to the successful implementation of the proposed project.

(4) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Objectives and Need for Assistance (20 Points)

In reviewing the objectives and need for assistance, the following factors will be considered: (20 points).

(1) The extent to which the application clearly demonstrates an understanding of the requirements of the Abandoned Infants Assistance Act, as amended, and the extent to which the proposed project will contribute to meeting those requirements. The extent to which the applicant demonstrates a clear understanding of the issues impacting on substance abusing and/or HIV/AIDS-affected women and their children.

(2) The extent to which the applicant presents a clear vision of the proposed comprehensive services project to be developed and implemented. The extent to which the applicant makes a clear statement of the goals (end results of an effective project) and objectives (measurable steps for reaching these goals) for the proposed comprehensive services project. The extent to which these goals and objectives will effectively address a community's need to provide comprehensive support services to children and their families affected by substance-abuse and/or HIV/AIDS by using a collaborative, integrated system of community-based, coordinated support services.

(3) The extent to which the applicant clearly demonstrates a thorough understanding of the need for the program to provide community-based, comprehensive support services to children and their families affected by substance-abuse and /or HIV/AIDS (e.g., sharing the results of a thorough assessment of community needs, including letters of collaboration and letters of support for the proposed program from community-based agencies).

(4) The extent to which the application presents a thorough review of the relevant literature that reflects a clear understanding of the research on best practices and promising approaches as it relates to the proposed project. The extent to which the review of the literature sets a sound context and rationale for the project. The extent to which it provides evidence that the proposed project is innovative and, if successfully implemented and evaluated, likely to contribute to the knowledge base of providing community-based, coordinated, comprehensive support services to children and their families impacted by substance-abuse and/or HIV/AIDS.

(5) The extent to which the applicant clearly identifies the population to be served by the project and thoroughly describes the needs of the target population. The extent to which the proposed project responds appropriately to needs of this target population. The extent to which the estimated number of infants and families to be served by the project is reasonable and appropriate.

(6) The extent to which the geographic location to be served by the project is clearly defined and justified based on factors such as the key socioeconomic and demographic characteristics of the targeted community as they relate to women of childbearing age, the needs of women and families who are affected by substance abuse and HIV/AIDS, and the current availability of needed services that serve substance-abusing and/or AIDS/HIV-infected women and their families in the community.

(7) The extent to which the application describes significant results or benefits that can be expected for substance-abusing women and/or women with HIV/AIDS and their children.

Budget and Budget Justification (10 Points)

In reviewing the budget and budget justification, the following factors will be considered: (10 points).

(1) The extent to which the costs of the proposed project are reasonable and programmatically justified, in view of the targeted population and community, the activities to be conducted and the expected results and benefits. The extent to which the justification includes appropriate community-specific factors closely related to substance abuse and perinatal exposure to drugs or HIV.

(2) The extent to which the applicant's fiscal controls and accounting procedures would ensure prudent use, proper and timely disbursement, and accurate accounting of funds received under this program announcement.

2. Review and Selection Process

No grant award will be made under this announcement on the basis of an incomplete application.

Since ACF will be using non-Federal reviewers in the review process, applicants have the option of omitting from the application copies (not the original) of specific salary rates or amounts for individuals specified in the application budget.

A panel of at least three reviewers (primarily experts from outside the Federal government) will use the evaluation criteria described in this announcement to evaluate each application. The reviewers will determine the strengths and weaknesses of each application, provide comments about the strengths and weaknesses and give each application a numerical score.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on underserved or inadequately served clients or service areas and programs addressing diverse ethnic populations.

In selecting applicants for award under this announcement the ACYF Commissioner will give priority to applicants located in States that have developed and implemented procedures for expedited termination of parental rights and placement for adoption of infants determined to be abandoned under State law.

Approved but Unfunded Applications

Applications that are approved but unfunded may be held over for funding in the next funding cycle, pending the availability of funds, for a period not to exceed one year.

3. Anticipated Announcement and Award Dates

Applications will be reviewed during the Summer 2005. Grant awards will have a start date no later than September 30, 2005.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

Direct Federal grants, sub-award funds, or contracts under this program shall not be used to support inherently religious activities such as religious instruction, worship, or proselytization. Therefore, organizations must take steps to separate, in time or location, their inherently religious activities from the services funded under this program. Regulations pertaining to the prohibition of Federal funds for inherently religious activities can be found on the HHS Web site at http://www.os.dhhs.gov/fbci/waisgate21.pdf.

3. Reporting Requirements

Program Progress Reports: Semi-Annually.

Financial Reports: Semi-Annually.

Grantees will be required to submit program progress and financial reports (SF 269) throughout the project period. Program progress and financial reports are due 30 days after the reporting period. In addition, final programmatic and financial reports are due 90 days after the close of the project period.

VII. Agency Contacts

Program Office Contact: Pat Campiglia, Children's Bureau, 330 C Street, SW., Washington, DC 20447, Phone: (202) 205-8060, e-mail: pcampiglia@acf.hhs.gov.

Grants Management Office Contact: Peter Thompson, Grants Officer, Administration for Children and Families, Children's Bureau, 330 C Street, SW. Room 2070, Washington, DC 20447, Phone: (202) 401-4608, e-mail: pathompson@acf.hhs.gov.

VIII. Other Information

Additional information about this program and its purpose can be located on the following Web sites: http://www.acf.hhs.gov/programs/cb/.

For general information regarding this announcement please contact: ACYF Operations Center, c/o The Dixon Group, Inc. Attn: Children's Bureau, 118 Q St., NE., Washington, DC 20002-2132, Telephone: 866-796-1591.

Notice: Beginning with FY 2005, the Administration for Children and Families (ACF) will no longer publish grant announcements in the Federal Register. Beginning October 1, 2005, applicants will be able to find a synopsis of all ACF grant opportunities and apply electronically for opportunities via: http://www.Grants.gov. Applicants will also be able to find the complete text of http://www.acf.hhs.gov/grants/index.html.

Please reference Section IV.3 for details about acknowledgement of received applications.

Dated: June 2, 2005.
Joan E. Ohl,
Commissioner, Administration on Children, Youth, and Families.

[FR Doc. 05-11592 Filed 6-10-05; 8:45 am]

BILLING CODE 4184-01-P